DEPARTMENT OF COMMERCE

International Trade Administration

[A-523-808]

Certain Steel Nails From the Sultanate of Oman: Preliminary Results of Antidumping Duty Administrative Review and Partial Rescission of Antidumping Duty Administrative Review; 2019-2020

AGENCY: Enforcement and Compliance, International Trade Administration, Department of Commerce.

SUMMARY: The Department of Commerce (Commerce) preliminarily determines that sales of certain steel nails (steel nails) from the Sultanate of Oman (Oman) have been made below normal value during the period of review (POR), July 1, 2019, through June 30, 2020. Further, Commerce is rescinding the administrative review, in part, with respect to Astrotech Steels Private Ltd. (Astrotech), Geekay Wires Limited (Geekay), Overseas International Steel Industry LLC & Overseas Distribution Services Inc. (Overseas), Trinity Steel Private Limited (Trinity Steel), Universal Freight Services LLC (Universal Freight Services), and WWL India Private Ltd (WWL India). Interested parties are invited to comment on this preliminary determination.

DATES: Applicable June 1, 2021.

FOR FURTHER INFORMATION CONTACT: Dakota Potts, AD/CVD Operations, Office IV, Enforcement and Compliance, International Trade Administration, U.S. Department of Commerce, 1401 Constitution Avenue NW, Washington, DC 20230; telephone: (202) 482-0223.

SUPPLEMENTARY INFORMATION:

Background

Commerce is conducting an administrative review of the antidumping duty order on steel nails

from Oman.¹ On July 1, 2020, Commerce published in the Federal Register a notice of opportunity to request an administrative review of the Order.² The notice of initiation published on September 3, 2020.³ On October 2, 2020, Commerce selected Oman Fasteners LLC (Oman Fasteners) as the sole mandatory respondent.⁴ For a complete description of the events that followed the initiation of this review, see the Preliminary Decision Memorandum.⁵

¹ See Certain Steel Nails from the Republic of Korea, Malaysia, the Sultanate of Oman, Taiwan, and the Socialist Republic of Vietnam: Antidumping Duty Orders, 80 FR 39994 (July 13, 2015) (Order).

² See Antidumping or Countervailing Duty Order, Finding, or Suspended Investigation; Opportunity to Request Administrative Review, 85 FR 39531 (July 1, 2020).

³ See Initiation of Antidumping and Countervailing Duty Administrative Reviews, 85 FR 54983 (September 3, 2020) (Initiation Notice).

⁴ See Commerce's Letter, dated October 2, 2020.

⁵ See Memorandum, “Decision Memorandum for the Preliminary Results of Antidumping Duty Administrative Review of Certain Steel Nails from the Sultanate of Oman; 2019-2020,” dated concurrently with, and hereby adopted by, this notice (Preliminary Decision Memorandum).

Scope of the Order

The products covered by the Order are nails from Oman. For a complete description of the scope, see the Preliminary Decision Memorandum.⁶

⁶ Id.

Partial Rescission of Administrative Review

Pursuant to 19 CFR 351.213(d)(1), Commerce will rescind an administrative review, in whole or in part, if a party who requested the review withdraws the request within 90 days of the date of publication of initiation of the requested review. On September 21, 2020, Mid Continent Steel & Wire (the petitioner) withdrew its requests for an administrative review of Astrotech, Geekay, Overseas, Trinity Steel, Universal Freight Services, and WWL India. No other party requested a review of these companies. Accordingly, we are rescinding this review with respect to these companies, pursuant to 19 CFR 351.213(d)(1). The review will continue with respect to Oman Fasteners.

Methodology

Commerce is conducting this administrative review in accordance with sections 751(a)(1)(B) and (2) of the Tariff Act of 1930 (the Act). Export price and constructed export price are calculated in accordance with section 772 of the Act. Normal value is calculated in accordance with section 773 of the Act.

For a full discussion of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/. A list of the topics discussed in the Preliminary Decision Memorandum is attached as in appendix II to this notice.

Preliminary Results of the Review

We preliminarily determine that the following weighted-average dumping margin exists for the period July 1, 2019, through June 30, 2020:

Exporter/producer | Weighted- average dumping margin (percent)
Oman Fasteners LLC | 1.76

Assessment Rates

Upon issuance of the final results, Commerce shall determine, and U.S. Customs and Border Protection (CBP) shall assess, antidumping duties on all appropriate entries covered by this review.⁷ The final results of this review shall be the basis for the assessment of antidumping duties on entries of merchandise covered by this review and for future deposits of estimated duties, where applicable.⁸

⁷ See 19 CFR 351.212(b).

⁸ See section 751(a)(2)(C) of the Act.

Commerce intends to issues assessment instructions to CBP no earlier than 35 days after the date of publication of the final results of this review in the Federal Register. If a summons is timely filed at the U.S. Court of International Trade, the assessment instructions will direct CBP not to liquidate relevant entries until the time for parties to file a request for a statutory injunction has expired (i.e., within 90 days of publication).

Pursuant to 19 CFR 351.212(b)(1), where an examined respondent's weighted-average dumping margin is not zero or de minimis (i.e., less than 0.5 percent), we calculated an importer-specific ad valorem duty assessment rate based on the ratio of the total amount of dumping calculated for the U.S. sales for a given importer to the total entered value of those sales. Where the mandatory respondent did not report entered value, we calculated the entered value in order to calculate the assessment rate. Where either the respondent's weighted-average dumping margin is zero or de minimis within the meaning of 19 CFR 351.106(c)(1), or an importer-specific assessment rate is zero or de minimis, we will instruct CBP to liquidate the appropriate entries without regard to antidumping duties.

Commerce's “automatic assessment” practice will apply to entries of subject merchandise during the POR produced by Oman Fasteners for which the reviewed companies did not know that the merchandise they sold to the intermediary (e.g., a reseller, trading company, or exporter) was destined for the United States. In such instances, we will instruct CBP to liquidate such unreviewed entries pursuant to the reseller policy,⁹ i.e., the assessment rate for such entries will be equal to the all-others rate established in the investigation (i.e. 9.10 percent),¹⁰ if there is no rate for the intermediate company(ies) involved in the transaction.

⁹ For a full discussion of this practice, see Antidumping and Countervailing Duty Proceedings: Assessment of Antidumping Duties, 68 FR 23954 (May 6, 2003).

¹⁰ See Certain Steel Nails from the Republic of Oman: Final Determination of Sales at Less Than Fair Value, 80 FR 28955 (May 20, 2015).

Cash Deposit Requirements

The following deposit requirements will be effective for all shipments of steel nails from Oman entered, or withdrawn from warehouse, for consumption on or after the publication date of the final results of this administrative review, as provided by section 751(a)(2)(C) of the Act: (1) The cash deposit rate for the exporters listed above will be that established in the final results of this review, except if the rate is less than 0.50 percent and, therefore, de minimis within the meaning of 19 CFR 351.106(c)(1), in which case the cash deposit rate will be zero; (2) for previously reviewed or investigated companies not participating in this review, the cash deposit rate will continue to be the company-specific rate published for the most recently-completed segment of this proceeding in which the company was reviewed; (3) if the exporter is not a firm covered in this review, a prior review, or the less-than-fair value (LTFV) investigation, but the manufacturer is, then the cash deposit rate will be the rate established for the most recently completed segment of this proceeding for the manufacturer of subject merchandise; and (4) the cash deposit rate for all other manufacturers or exporters will continue to be 9.10 percent, the all-others rate made effective by the LTFV investigation.¹¹ These deposit requirements, when imposed, shall remain in effect until further notice.

¹¹ Id.

Disclosure and Public Comment

Commerce intends to disclose the calculations performed in connection with these preliminary results to interested parties within five days after the date of publication of this notice in accordance with 19 CFR 351.224(b).

Interested parties may submit case briefs no later than 30 days after the date of publication of this notice.¹² Rebuttal briefs, limited to issues raised in the case briefs, may be filed no later than seven days after the time limit for filing case briefs.¹³ Parties who submit case briefs or rebuttal briefs in this proceeding are encouraged to submit with each argument: (1) A statement of the issue; (2) a brief summary of the argument; and (3) a table of authorities.¹⁴ Case and rebuttal briefs should be filed using ACCESS and must be served on interested parties.¹⁵ Note that Commerce has modified certain of its requirements for serving documents containing business proprietary information until further notice.¹⁶

¹² See 19 CFR 351.309(c)(1)(ii); see also 19 CFR 351.303 (for general filing requirements).

¹³ See 19 CFR 351.309; see also 19 CFR 351.303 (for general filing requirements).

¹⁴ See 19 CFR 351.309(c)(2) and (d)(2).

¹⁵ See 19 CFR 351.303.

¹⁶ See Temporary Rule Modifying AD/CVD Service Requirements Due to Covid-19; Extension of Effective Period, 85 FR 41363 (July 10, 2020).

Pursuant to 19 CFR 351.310(c), interested parties who wish to request a hearing must submit a written request to the Acting Assistant Secretary for Enforcement and Compliance, filed electronically via ACCESS. Hearing requests should contain: (1) The party's name, address, and telephone number; (2) the number of participants; and (3) a list of issues to be discussed. Issues raised in the hearing will be limited to issues raised in the briefs. If a request for a hearing is made, Commerce intends to hold the hearing at a date and time to be determined.¹⁷ Parties should confirm by telephone the date, time, and location of the hearing two days before the scheduled date.

¹⁷ See 19 CFR 351.310(c).

An electronically-filed request for a hearing must be received successfully in its entirety by ACCESS by 5 p.m. Eastern Time within 30 days after the date of publication of this notice.¹⁸ Commerce intends to issue the final results of this administrative review, including the results of its analysis of issues raised in all written briefs, not later than 120 days after the publication of these preliminary results in the Federal Register pursuant to section 751(a)(3)(A) of the Act and 19 CFR 351.213(h)(1), unless otherwise extended.¹⁹

¹⁸ See 19 CFR 351.310(c); see also 19 CFR 351.303(b)(1).

¹⁹ See section 751(a)(3)(A) of the Act.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

This determination is issued and published in accordance with sections 733(f) and 777(i)(1) of the Act and 19 CFR 351.205(c).

Dated: May 19, 2021.
Christian Marsh,
Acting Assistant Secretary for Enforcement and Compliance.

Appendix I

List of Topics Discussed in the Preliminary Decision Memorandum

I. Summary

II. Background

III. Scope of the AD Order

IV. Rescission of Requested Companies

V. Discussion of the methodology

VI. Recommendation

[FR Doc. 2021-11464 Filed 5-28-21; 8:45 am]

BILLING CODE 3510-DS-P